DEPARTMENT OF THE INTERIOR

Bureau of Indian Affairs

Indian Entities Recognized and Eligible To Receive Services From the United States Bureau of Indian Affairs

AGENCY: Bureau of Indian Affairs, Interior.

ACTION: Notice.

SUMMARY: This notice supplements the list of “Indian Entities Recognized and Eligible To Receive Services From the United States Bureau of Indian Affairs,” published in the Federal Register on October 1, 2010, and announces that, as of October 1, 2010, the Shinnecock Indian Nation is an Indian entity recognized and eligible to receive services from the Bureau of Indian Affairs (BIA).

FOR FURTHER INFORMATION CONTACT: Elizabeth Colliflower, Bureau of Indian Affairs, Division of Tribal Government Services, Mail Stop 4513-MIB, 1849 C Street, NW., Washington, DC 20240. Telephone number: (202) 513-7641.

SUPPLEMENTARY INFORMATION: This notice supplements the list of Indian entities recognized and eligible to receive services from the BIA dated September 22, 2010, and published in the Federal Register on October 1, 2010, pursuant to Section 104 of the Act of November 2, 1994 (Pub. L. 103-454; 108 Stat. 4791, 4792), and in exercise of authority delegated to the Assistant Secretary—Indian Affairs under 25 U.S.C. 2 and 9, 43 U.S.C. 1457, and 209 DM 8. As of October 1, 2010, the Shinnecock Indian Nation, New York, is an Indian entity recognized and eligible to receive services from the BIA. This addition to the list of Indian entities results from the October 1, 2010, Interior Board of Indian Appeals order dismissing requests for reconsideration in docket numbers IBIA 10-112 and 10-116, In Re Federal Acknowledgment of the Shinnecock Indian Nation.

Dated: October 19, 2010.
Paul Tsosie,
Chief of Staff to the Assistant Secretary—Indian Affairs.

[FR Doc. 2010-27138 Filed 10-26-10; 8:45 am]

BILLING CODE 4310-4J-P